DEPARTMENT OF THE INTERIOR

National Park Service

Final Environmental Impact Statement; Alcatraz Island Historic Preservation and Safety Construction; Golden Gate National Recreation Area, California, Notice of Approval of Record of Decision

SUMMARY: Pursuant to § 102(2)(C) of the National Environmental Policy Act of 1969 (Pub. L. 91-190, as amended) and the regulations promulgated by the Council on Environmental Quality (40 CFR Part 1505.2), the Department of the Interior, National Park Service has prepared and approved a Record of Decision for the Final Environmental Impact Statement for the Alcatraz Island Historic Preservation and Safety Construction Program, Golden Gate National Recreation Area. The no-action period was initiated October 26, 2001, with the U.S. Environmental Protection Agency's Federal Register (V66, N208, P54241) notification of the filing of the Final Environmental Impact Statement (FEIS).

Decision: As soon as practical the National Park Service will begin to implement the historic preservation and safety construction program described as the Proposed Action alternative contained in the FEIS, issued in October, 2001. This alternative was deemed to be the “environmentally preferred” alternative, and it was further determined that implementation of the selected actions will not constitute an impairment of park values or resources. This course of action and two additional alternatives were identified and analyzed in the Final and Draft Environmental Impact Statements (the latter was distributed in March 2001). The full range of foreseeable environmental consequences were assessed, and appropriate mitigation measures identified.

Copies: Interested parties desiring to review the Record of Decision may obtain a copy by contacting the Superintendent, Golden Gate National Recreation Area, Building 201, Fort Mason, San Francisco, CA 94123; or via telephone request at (415) 561-4936.

Dated: February 25, 2002.
John J. Reynolds,
Regional Director, Pacific West Region.

[FR Doc. 02-8817 Filed 4-10-02; 8:45 am]

BILLING CODE 4310-70-P